DEPARTMENT OF THE INTERIOR

National Park Service

[NPS-WASO-NAGPRA-NPS0034495; PPWOCRADN0-PCU00RP14.R50000]

Notice of Inventory Completion: Federal Bureau of Investigation, Art Theft Program, Washington, DC

AGENCY: National Park Service, Interior.

ACTION: Notice.

SUMMARY: The Federal Bureau of Investigation (FBI) has completed an inventory of human remains and associated funerary objects in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the FBI. If no additional requestors come forward, transfer of control of the human remains and associated funerary objects to the Indian Tribes or Native Hawaiian organizations stated in this notice may proceed.

DATES: Lineal descendants or representatives of any Indian Tribe or Native Hawaiian organization not identified in this notice that wish to request transfer of control of these human remains and associated funerary objects should submit a written request with information in support of the request to the FBI at the address in this notice by October 14, 2022.

FOR FURTHER INFORMATION CONTACT: Federal Bureau of Investigation, FBI Headquarters, Attn: Supervisory Special Agent (SSA) Randolph J. Deaton IV, Art Theft Program, 935 Pennsylvania Avenue NW, Washington, DC 20535, telephone (954) 931-3670, email artifacts@ic.fbi.gov.

SUPPLEMENTARY INFORMATION: Notice is here given in accordance with the Native American Graves Protection and Repatriation Act (NAGPRA), 25 U.S.C. 3003, of the completion of an inventory of human remains and associated funerary objects under the control of the Federal Bureau of Investigation, Washington, DC. The human remains and associated funerary objects were removed from Mauckport Ferry Mound in Harrison County, IN, and Crib Mound in Spencer County, IN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by FBI professional staff in consultation with representatives of the Miami Tribe of Oklahoma; Pokagon Band of Potawatomi Indians, Michigan and Indiana; and the Shawnee Tribe (hereafter referred to as “The Consulted Tribes”).

History and Description of the Remains

At an unknown date believed to be in the mid-1960s, human remains representing, at minimum, 39 individuals were removed from Mauckport Ferry Mound in Harrison County, IN, and Crib Mound in Spencer County, IN. No known individuals were identified. The 110 associated funerary objects are six projectile points, 23 pieces of worked stone, 26 pottery sherds, five shell fragments, four pieces of clay, and 46 faunal remains.

The Mauckport Ferry Mound site is a Late Archaic site dating from 4,000 to 1,000 B.C., and the Crib Mound site is a Middle-to-Late Archaic site. Both sites were heavily looted during the 1950s and 1960s. Following their removal, the human remains were transported to a private residence where they remained part of a larger collection. In April of 2014, these human remains were seized by the FBI as part of a criminal investigation. Based upon both physical evidence obtained through criminal investigation and osteological analysis, and information obtained through consultation, a relationship of shared group identity can be reasonably traced between the Native American human remains and the Pokagon Band of Potawatomi Indians, Michigan and Indiana.

Determinations Made by the Federal Bureau of Investigation

Officials of the Federal Bureau of Investigation have determined that:

• Pursuant to 25 U.S.C. 3001(9), the human remains described in this notice represent the physical remains of 39 individuals of Native American/Southwest ancestry.

• Pursuant to 25 U.S.C. 3001(3)(A) the 110 objects described in this notice are reasonably believed to have been placed with or near individual human remains at the time of death or later as part of the death rite or ceremony.

• Pursuant to 25 U.S.C. 3001(2), there is a relationship of shared group identity that can be reasonably traced between the Native American human remains and the Pokagon Band of Potawatomi Indians, Michigan and Indiana.

Additional Requestors and Disposition

Lineal descendants or representatives of any Indian Tribe or Native Hawaiian organization not identified in this notice that wish to request transfer of control of these human remains and associated funerary objects should submit a written request with information in support of the request to the Federal Bureau of Investigation, FBI Headquarters, Attn: Supervisory Special Agent (SSA) Randolph J. Deaton IV, Art Theft Program, 935 Pennsylvania Avenue NW, Washington, DC 20535, telephone (954) 931-3670, email artifacts@ic.fbi.gov, by October 14, 2022. After that date, if no additional requestors have come forward, transfer of control of the human remains and associated funerary objects to the Pokagon Band of Potawatomi Indians, Michigan and Indiana may proceed.

The Federal Bureau of Investigation is responsible for notifying The Consulted Tribes that this notice has been published.

Dated: September 1, 2022.
Melanie O'Brien,
Manager, National NAGPRA Program.

[FR Doc. 2022-19827 Filed 9-13-22; 8:45 am]

BILLING CODE 4312-52-P